DEPARTMENT OF ENERGY

Federal Energy Regulatory Commission

Combined Notice of Filings

Take notice that the Commission has received the following Natural Gas Pipeline Rate and Refund Report filings:

Filings Instituting Proceedings

Docket Numbers: RP17-848-000.

Applicants: Midcontinent Express Pipeline LLC.

Description: Midcontinent Express Pipeline LLC submits tariff filing per 154.204: Housekeeping Filing June 2017 to be effective 8/1/2017.

Filed Date: 06/28/2017.

Accession Number: 20170628-5039.

Comment Date: 5:00 p.m. Eastern Time on Monday, July 10, 2017.

Docket Numbers: RP17-849-000.

Applicants: Texas Eastern Transmission, LP.

Description: Texas Eastern Transmission, LP submits tariff filing per 154.204: Negotiated Rate—Chevron to ConocoPhillips—contract 8946463 to be effective 7/1/2017.

Filed Date: 06/28/2017.

Accession Number: 20170628-5071.

Comment Date: 5:00 p.m. Eastern Time on Monday, July 10, 2017.

Docket Numbers: RP17-850-000.

Applicants: Transcontinental Gas Pipe Line Company.

Description: Transcontinental Gas Pipe Line Company, LLC submits tariff filing per 154.204: Negotiated Rates—Cherokee AGL—Replacement Shippers—Jul 2017 to be effective 7/1/2017.

Filed Date: 06/28/2017.

Accession Number: 20170628-5078.

Comment Date: 5:00 p.m. Eastern Time on Monday, July 10, 2017.

Docket Numbers: RP17-851-000.

Applicants: Gulf South Pipeline Company, LP.

Description: Gulf South Pipeline Company, LP submits tariff filing per 154.204: Request for Service Waiver to be effective 8/1/2017.

Filed Date: 06/28/2017.

Accession Number: 20170628-5123.

Comment Date: 5:00 p.m. Eastern Time on Monday, July 10, 2017.

Docket Numbers: RP17-852-000.

Applicants: El Paso Natural Gas Company, L.L.C.

Description: El Paso Natural Gas Company, L.L.C. submits tariff filing per 154.601: Non-Conforming OPASA Update (APS) to be effective 8/1/2017.

Filed Date: 06/28/2017.

Accession Number: 20170628-5130.

Comment Date: 5:00 p.m. Eastern Time on Monday, July 10, 2017.

Docket Numbers: RP17-853-000.

Applicants: Big Sandy Pipeline, LLC.

Description: Big Sandy Pipeline, LLC submits tariff filing per 154.403: Big Sandy EPC 2017 to be effective 8/1/2017.

Filed Date: 06/28/2017.

Accession Number: 20170628-5141.

Comment Date: 5:00 p.m. Eastern Time on Monday, July 10, 2017.

Docket Numbers: RP17-854-000.

Applicants: Sabine Pipe Line LLC.

Description: Sabine Pipe Line LLC submits tariff filing per 154.204: Sabine Address Update Tariff Filing to be effective 6/28/2017.

Filed Date: 06/28/2017.

Accession Number: 20170628-5167.

Comment Date: 5:00 p.m. Eastern Time on Monday, July 10, 2017.

Docket Numbers: RP17-855-000.

Applicants: Chandeleur Pipe Line, LLC.

Description: Chandeleur Pipe Line, LLC submits tariff filing per 154.204: Chandeleur Address Update Tariff Filing to be effective 6/28/2017.

Filed Date: 06/28/2017.

Accession Number: 20170628-5171.

Comment Date: 5:00 p.m. Eastern Time on Monday, July 10, 2017.

Docket Numbers: RP17-856-000.

Applicants: El Paso Natural Gas Company, L.L.C.

Description: El Paso Natural Gas Company, L.L.C. submits tariff filing per 154.601: Negotiated Rate Agreement Update (APS July 2017) to be effective 7/1/2017.

Filed Date: 06/28/2017.

Accession Number: 20170628-5193.

Comment Date: 5:00 p.m. Eastern Time on Monday, July 10, 2017.

Docket Numbers: RP17-857-000.

Applicants: ConocoPhillips Company.

Description: Joint Petition of ConocoPhillips Company, et al. for Limited Waiver and Request for Expedited Action under RP17-857.

Filed Date: 06/28/2017.

Accession Number: 20170628-5197.

Comment Date: 5:00 p.m. Eastern Time on Friday, July 07, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2017.
Nathaniel J. Davis, Sr.,
Deputy Secretary.

[FR Doc. 2017-14082 Filed 7-3-17; 8:45 am]

BILLING CODE 6717-01-P